DEPARTMENT OF EDUCATION

[Docket No. ED-2015-ICCD-0027]

Agency Information Collection Activities; Submission to the Office of Management and Budget for Review and Approval; Comment Request; Student Messaging in GEAR UP Demonstration

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before July 31, 2015.

ADDRESSES: Comments submitted in response to this notice should be submitted electronically through the Federal eRulemaking Portal at http://www.regulations.gov by selecting Docket ID number ED-2015-ICCD-0027 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Marsha Silverberg, 202 208-7178.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Messaging in GEAR UP Demonstration.

OMB Control Number: 1850-NEW.

Type of Review: A new information collection.

Respondents/Affected Public: Individuals or Households.

Total Estimated Number of Annual Responses: 5,360.

Total Estimated Number of Annual Burden Hours: 1,386.

Abstract: The Student Messaging in GEAR UP Demonstration, sponsored by the Institute of Education Sciences (IES), U.S. Department of Education (ED), is being conducted to test the effectiveness of a promising strategy to improve college-related outcomes in the federal college access program Gaining Early Awareness and Readiness for Undergraduate Programs (GEAR UP). The demonstration will use a randomized controlled trial (RCT) design to test the effectiveness of sending customized messaging to students, first during the summer after high school graduation, and then in the fall and spring of their expected first year of college. Students within high schools that volunteer for the demonstration will be randomly assigned to either receive the messages or not. This ICR requests clearance for the collection of GEAR UP student rosters and administration of a baseline survey. In addition to the baseline survey data that will be collected from students, college-related outcome data will be extracted from national datasets (National Student Clearinghouse Data (NSC) and the Federal Student Aid (FSA) database). Impact and descriptive analyses will be conducted to answer the study research questions. The evaluation plans call for two reports. The first, published in summer 2018, will be based on data collected through 2017 that will look at college advising received in high school and early college-related outcomes (i.e., college enrollment and FAFSA completion). The second report will be available in early 2020, and will investigate college persistence.

Dated: June 25, 2015.
Stephanie Valentine,
Acting Director, Information Collection Clearance Division, Office of the Chief Privacy Officer, Office of Management.

[FR Doc. 2015-16107 Filed 6-30-15; 8:45 am]

BILLING CODE 4000-01-P